FEDERAL COMMUNICATIONS COMMISSION

47 CFR Part 73

[DA 09-1726; MB Docket No. 08-242; RN-11506]

Radio Broadcasting Services; Ten Sleep, WY

AGENCY: Federal Communications Commission.

ACTION: Final rule.

SUMMARY: The Audio Division, at the request of Legend Communications of Wyoming, LLC, allots Channel 267A at Ten Sleep, Wyoming, as the community's second potential local FM service. Channel 267A can be allotted to Ten Sleep, Wyoming, in compliance with the Commission's minimum distance separation requirements with a site restriction of 0.3 kilometers (0.2 miles) northeast of Ten Sleep. The coordinates for Channel 267A at Ten Sleep, Wyoming, are 44-02-08 North Latitude and 107-26-50 West Longitude.

DATES: Effective September 17, 2009.

FOR FURTHER INFORMATION CONTACT: Deborah Dupont, Media Bureau, (202) 418-2180.

SUPPLEMENTARY INFORMATION: This is a synopsis of the Commission's Report and Order, MB Docket No. 08-242, adopted July 30, 2009, and released August 3, 2009. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will send a copy of this Report and Order in a report to be sent to Congress and the Government Accountability Office pursuant to the Congressional Review Act, see U.S.C. 801(a)(1)(A).

List of Subjects in 47 CFR Part 73

Radio, Radio broadcasting.

For the reasons discussed in the preamble, the Federal Communications Commission amends 47 CFR Part 73 as follows:

PART 73—RADIO BROADCAST SERVICES

1. The authority citation for Part 73 continues to read as follows:

Authority: 47 U.S.C. 154, 303, 334, 336.

§ 73.202 [Amended]

2. Section 73.202(b), the Table of FM Allotments under Wyoming, is amended by adding Ten Sleep, Channel 267A.

Andrew J. Rhodes,
Senior Counsel, Allocations, Audio Division, Media Bureau, Federal Communications Commission.

[FR Doc. E9-19880 Filed 8-18-09; 8:45 am]

BILLING CODE 6712-01-P